DEPARTMENT OF VETERANS AFFAIRS

Veterans' Advisory Committee on Education, Notice of Meeting

The Department of Veterans Affairs gives notice under the Federal Advisory Committee Act, 5 U.S.C. app. 2., that the Veterans' Advisory Committee on Education (“Committee”) will meet on November 29, 2022-November 30, 2022, from 10 a.m. to 5 p.m., eastern standard time in Washington, DC. All sessions are open to the public.

The purpose of the Committee is to advise the Secretary of Veterans Affairs on the administration of education and training programs for Veterans, Servicepersons, Reservists, and Dependents of Veterans including programs under chapters 30, 32, 33, 35, and 36 of title 38, and chapter 1606 of title 10, United States Code.

During the meeting sessions, the Committee will hear reports from three subcommittees (Modernization, Veteran Vocational Education and Training Programs and Distance Learning) and will receive other updates and briefings.

Interested persons may attend virtually via Microsoft Teams. Please email EDUSTAENG.VBAVACO@va.gov prior to November 25, 2022 if you wish to attend or you can dial-in by phone (for audio only) at 1-872-701-0185 (Toll-Free) using the Conference ID: 503 072 155#.

Although no time will be allotted for receiving oral presentations from the public, individuals wishing to share information with the Committee may submit written statements for the Committee's review to Mr. Joseph Maltby, Designated Federal Official, Department of Veterans Affairs, by email at EDUSTAENG.VBAVACO@va.gov. Comments will be accepted until close of business on Monday, November 28, 2022. In the communication, the writers must identify themselves and state the organization or association they represent for inclusion in the official record.

Dated: October 11, 2022.
Jelessa M. Burney,
Federal Advisory Committee Management Officer.

[FR Doc. 2022-22358 Filed 10-13-22; 8:45 am]

BILLING CODE 8320-01-P